DEPARTMENT OF THE INTERIOR

Fish and Wildlife Service

[Docket No. FWS-R8-NWRS-2016-0063; FXRS12610800000-167-FF08R00000]

Lower Klamath, Clear Lake, Tule Lake, Upper Klamath, and Bear Valley National Wildlife Refuges, Klamath County, OR; Siskiyou and Modoc Counties, CA: Draft Comprehensive Conservation Plan/Environmental Impact Statement; Correction

AGENCY: Fish and Wildlife Service, Interior.

ACTION: Notice of availability; request for comments; correction.

SUMMARY: On May 6, 2016, we, the U.S. Fish and Wildlife Service, announced the availability of a Draft Comprehensive Conservation Plan (CCP) and Environmental Impact Statement (EIS) for Lower Klamath, Clear Lake, Tule Lake, Upper Klamath, and Bear Valley National Wildlife Refuges (Refuges) for review and comment. In one instance, we printed the incorrect docket number for interested parties to use to submit comments. The correct docket number is FWS-R8-NWRS-2016-0063. With this notice, we correct that error.

FOR FURTHER INFORMATION CONTACT: Klamath Refuge Planner, (916) 414-6464 (phone).

SUPPLEMENTARY INFORMATION: In the Federal Register of May 6, 2016 (81 FR 27468; FR Doc. 2016-10717), in the second column of page 27468 in the ADDRESSES section, correct the docket number from “FWS-R8-R-2016-0063” to “FWS-R8-NWRS-2016-0063.”

Dated: May 9, 2016.
Tina A. Campbell,
Chief, Division of Policy, Performance, and Management Programs, U.S. Fish and Wildlife Service.

[FR Doc. 2016-11214 Filed 5-11-16; 8:45 am]

BILLING CODE 4333-15-P